DEPARTMENT OF TRANSPORTATION

Pipeline and Hazardous Materials Safety Administration

Notice of Applications for Modification of Special Permit

AGENCY: Office of Hazardous Materials Safety, Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before October 11, 2013.

ADDRESSES: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, on September 19, 2013.
Donald Burger,
Chief, General Approvals and Permits.

Application No. | Docket No. | Applicant | Regulation(s) affected | Nature of special permit thereof
MODIFICATION SPECIAL PERMITS
11827-M |  | Moses Lake Industries, Inc., Moses Lake, WA | 49 CFR 180.605(c) (1) and 180.352(b) (3) | To modify the special permit to authorize a dual hazard material.
12184-M |  | Weldship Corporation, Bethlehem, PA | 49 CFR 180.209(a), 180.205(c), (f), (g) and (i), 173.302a (b) (2), (3), (4) and (5), and 180.213 | To modify the special permit to authorize UN cylinders manufactured in accordance with ISO 11120, update the minimum wall thickness table, and update the rejection criteria table to include outside diameters of 18” to 22” for DOT 3AAX cylinders.
14232-M |  | Luxfer Gas Cylinders, Riverside, CA | 49 CFR 173.302a(a), 173.304a(a), and 180.205 | To modify the special permit to authorize a 30 year service life as specified in ISO 11119-2 and update the acceptance criteria.
15642-M |  | Praxair Distribution, Inc., Danbury, CT | 49 CFR 180.205 and 180.209(a)(b), 180.213(b), and 180.213(f)(2) | To modify the special permit to waive the requirement for the special permit number being marked on shipping papers, modification of the proper shipping names, modification of wording to clarify authorized locations of UE testing, and waive the requirement for the special permit to be carried on each motor vehicle.
15723-M |  | Entegris, Chaska, MN | 49 CFR 173.222(c) (1) and 176.83 | To modify the special permit to authorize a crate with smaller external dimensions.
15854-M |  | Colmac Coil Manufacturing, Inc., Colville, WA | 49 CFR 173.222, IMDG Code, Special Provision 301 | To modify the special permit orginally issued on an emergency basis to routine with a two year renewal.

[FR Doc. 2013-23460 Filed 9-25-13; 8:45 am]

BILLING CODE 4909-60-P